DEPARTMENT OF HOMELAND SECURITY

Federal Emergency Management Agency

[Docket ID FEMA-2019-0002; Internal Agency Docket No. FEMA-B-1907]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Avondale (18-09-0518P). | The Honorable Kenneth N. Weise, Mayor, City of Avondale, 11465 West Civic Center Drive, Avondale, AZ 85323. | Development & Engineering Services Department, 11465 West Civic Center Drive, Avondale, AZ 85323. | https://msc.fema.gov/portal/advanceSearch. | Apr. 19, 2019 | 040038
Maricopa | Unincorporated Areas of Maricopa County (18-09-0518P). | The Honorable Steve Chucri, Chairman, Board of Supervisors, Maricopa County, 301 West Jefferson Street, 10th Floor, Phoenix, AZ 85003. | Flood Control District of Maricopa County, 2801 West Durango Street, Phoenix, AZ 85009. | https://msc.fema.gov/portal/advanceSearch. | Apr. 19, 2019 | 040037
Florida:
St. Johns | Unincorporated Areas of St. Johns County (18-04-6798P). | Mr. Henry Dean, Chairman, St. Johns County Board of Commissioners, 500 San Sebastian View, St. Augustine, FL 32084. | St. Johns County Administration Building, 4020 Lewis Speedway, St. Augustine, FL 32084. | https://msc.fema.gov/portal/advanceSearch. | Apr. 25, 2019 | 125147
Walton | Unincorporated Areas of Walton County (18-04-4592P). | Mr. Trey Nick, Commissioner, Walton County, 263 Chaffin Avenue, DeFuniak Springs, FL 32433. | Walton County Courthouse Annex, 47 North 6th Street, DeFuniak Springs, FL 32435. | https://msc.fema.gov/portal/advanceSearch. | May 2, 2019 | 120317
Kansas:
Douglas | City of Lawrence (18-07-0976P). | The Honorable Stuart Boley, Mayor, City of Lawrence, P.O. Box 708, Lawrence, KS 66044. | City Hall, 6 East 6th Street, Lawrence, KS 66044. | https://msc.fema.gov/portal/advanceSearch. | Apr. 29, 2019 | 200090
Douglas | Unincorporated Areas of Douglas County (18-07-0976P). | Mr. Mike Gaughan, Douglas County Commissioner, 1st District, County Courthouse, 1100 Massachusetts Street, Lawrence, KS 66044. | Douglas County Zoning & Codes Department, 2108 West 27th Street, Suite I, Lawrence, KS 66047. | https://msc.fema.gov/portal/advanceSearch. | Apr. 29, 2019 | 200087
Johnson | City of Shawnee (18-07-1702P). | The Honorable Michelle Distler, Mayor, City of Shawnee, City Hall, 11110 Johnson Drive, Shawnee, KS 66203. | City Hall, 11110 Johnson Drive, Shawnee, KS 66203. | https://msc.fema.gov/portal/advanceSearch. | Apr. 17, 2019 | 200177
Johnson | City of Shawnee (18-07-2005P). | The Honorable Michelle Distler, Mayor, City of Shawnee, City Hall, 11110 Johnson Drive, Shawnee, KS 66203. | City Hall, 11110 Johnson Drive, Shawnee, KS 66203. | https://msc.fema.gov/portal/advanceSearch. | Apr. 17, 2019 | 200177
Johnson | City of Shawnee (18-07-2117P). | The Honorable Michelle Distler, Mayor, City of Shawnee, City Hall, 11110 Johnson Drive, Shawnee, KS 66203. | City Hall, 11110 Johnson Drive, Shawnee, KS 66203. | https://msc.fema.gov/portal/advanceSearch. | Apr. 17, 2019 | 200177
Massachusetts:
Middlesex | City of Lowell (18-01-1941P). | The Honorable William Samaras, Mayor, City of Lowell, City Hall, 375 Merrimack Street, Lowell, MA 01852. | City Hall, 375 Merrimack Street, Lowell, MA 01852. | https://msc.fema.gov/portal/advanceSearch. | May 9, 2019 | 250201
Middlesex | Town of Dracut (18-01-1941P). | The Honorable Jesse Forcier, Chairman, Town of Dracut Board of Selectmen, Town Hall, 62 Arlington Street, Dracut, MA 01826. | Town Hall, 62 Arlington Street, Dracut, MA 01826. | https://msc.fema.gov/portal/advanceSearch. | May 9, 2019 | 250190
Middlesex | Town of Tewksbury (18-01-1941P). | The Honorable Jay J. Kelly, Chairman, Town of Tewksbury Board of Selectmen, Town Hall, 1009 Main Street, 2nd Floor, Tewksbury, MA 01876. | Town Hall, 1009 Main Street, Tewksbury, MA 01876. | https://msc.fema.gov/portal/advanceSearch. | May 9, 2019 | 250218
Nebraska: Cass | City of Louisville (18-07-0041P). | The Honorable Roger Behrns, Mayor, City of Louisville, P.O. Box 370, Louisville, NE 68037. | City Hall, 210 Main Street, Louisville, NE 68037. | https://msc.fema.gov/portal/advanceSearch. | May 3, 2019 | 310031
Nevada: Douglas | Unincorporated Areas of Douglas County (18-09-1883P). | The Honorable Steve Thaler, Chairman, Board of Commissioners, Douglas County, P.O. Box 218, Minden, NV 89423. | Douglas County, Community Development, 1594 Esmeralda Avenue, Minden, NV 89423. | https://msc.fema.gov/portal/advanceSearch. | May 3, 2019 | 320008
Ohio: Montgomery | City of Englewood (18-06-6276P). | Mr. William J. Singer, Development Director City of Englewood, 333 West National Road, Englewood, OH 45322. | Government Center, 333 West National Road, Englewood, OH 45322. | https://msc.fema.gov/portal/advanceSearch. | May 6, 2019 | 390828
Oregon:
Marion | City of Salem (18-10-1215P). | The Honorable Chuck Bennett, Mayor, City of Salem, City Hall, 555 Liberty Street Southeast, Room 220, Salem, OR 97301. | Public Works Department, 555 Liberty Street Southeast, Room 325, Salem, OR 97301. | https://msc.fema.gov/portal/advanceSearch. | May 9, 2019 | 410167
Marion | Unincorporated Areas of Marion County (18-10-1215P). | Ms. Janet Carlson, Chair, Marion County Board of Commissioners, P.O. Box 14500, Salem, OR 97309. | Marion County Department of Planning, 3150 Lancaster Drive Northeast, Salem, OR 97305. | https://msc.fema.gov/portal/advanceSearch. | May 9, 2019 | 410154
Washington | City of Hillsboro (18-10-0728P). | The Honorable Steve Callaway, Mayor, City of Hillsboro, Civic Center Building, 150 East Main Street, Hillsboro, OR 97123. | City Hall, 150 East Main Street, Hillsboro, OR 97123. | https://msc.fema.gov/portal/advanceSearch. | Apr. 25, 2019 | 410243
Washington | Unincorporated Areas of Washington County (18-10-0728P). | The Honorable Roy Rogers, Mayor, Washington County, 155 North 1st Avenue, Hillsboro, OR 97124. | Washington County Department of Land Use and Transportation, 155 North 1st Avenue, Suite 350, Hillsboro, OR 97124. | https://msc.fema.gov/portal/advanceSearch. | Apr. 25, 2019 | 410238
Virginia: Fairfax | Unincorporated Areas of Fairfax County (18-03-1475P). | The Honorable Sharon Bulova, Chairman, Fairfax County Board of Supervisors, 12000 Government Center Parkway, Suite 552, Fairfax, VA 22035. | Fairfax County Community Map Repository/Stormwater Planning, 12000 Government Center Parkway, Suite 449, Fairfax, VA 22035. | https://msc.fema.gov/portal/advanceSearch. | Apr. 11, 2019 | 515525
Washington:
Grays Harbor | City of Aberdeen (18-10-0100P). | The Honorable Erik Larson, Mayor, City of Aberdeen, City Hall, 200 East Market Street, Aberdeen, WA 98520. | City Hall, 200 East Market Street, Aberdeen, WA 98520. | https://msc.fema.gov/portal/advanceSearch. | Apr. 19, 2019 | 530058
Grays Harbor | Unincorporated Areas of Grays Harbor County (18-10-0100P). | Ms. Vickie Raines, Commissioner, Grays Harbor County, Administration Building, 100 West Broadway, Suite 1, Montesano, WA 98563. | Grays Harbor Administration Building, 100 West Broadway, Suite 31, Montesano, WA 98563. | https://msc.fema.gov/portal/advanceSearch. | Apr. 19, 2019 | 530057
Pierce | City of Tacoma (18-10-1374P). | The Honorable Victoria Woodards, Mayor, City of Tacoma, 747 Market Street, 12th Floor, Tacoma, WA 98402. | Municipal Building, 747 Market Street, Tacoma, WA 98402. | https://msc.fema.gov/portal/advanceSearch. | Apr. 25, 2019 | 530148
Yakima | Unincorporated Areas of Yakima County (18-10-0191P). | The Honorable Ron Anderson, Chairman, Board of Yakima County Commissioners, Yakima County Courthouse, 128 North 2nd Street, Room 232, Yakima, WA 98901. | Yakima County Public Services, 128 North 2nd Street, Yakima, WA 98901. | https://msc.fema.gov/portal/advanceSearch. | Apr. 5, 2019 | 530217

[FR Doc. 2019-03369 Filed 2-26-19; 8:45 am]

BILLING CODE 9110-12-P